ENVIRONMENTAL PROTECTION AGENCY

[OPP-2004-0201; FRL-7369-5]

Fenvalerate; Cancellation Order

AGENCY: Environmental Protection Agency (EPA).

ACTION: Notice.

SUMMARY: In accordance with section 6(f)(1) of the Federal Insecticide, Fungicide, and Rodenticide Act (FIFRA), as amended, on December 23, 2003, the Agency issued a Cancellation Order announcing its approval of the requests submitted by Sumitomo Chemical Company, Limited and Bayer Environmental Science to voluntarily cancel the registrations for all of their products containing 4-chloro-alpha-(1-methylethyl)benzeneacetic acid, cyano(3-phenoxyphenyl)methyl ester (fenvalerate). Any distribution, sale or use of the products subject to this cancellation order is only permitted in accordance with the terms of the existing stocks provisions of this cancellation order.

FOR FURTHER INFORMATION CONTACT: Wilhelmena Livingston; Special Review and Reregistration Division (7508C), Office of Pesticide Programs, Environmental Protection Agency, 1200 Pennsylvania Avenue, NW., Washington, DC 20460-0001; telephone number: (703) 308-8025; fax number: (703) 308-8041; e-mail address: livingston.wilhelmena@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of This Document and Other Related Information?

1. Docket. EPA has established an official public docket for this action under docket identification (ID) number OPP-2004-0201. The official public docket consists of the documents specifically referenced in this action, any public comments received and other information related to this action. Although a part of the official docket, the public docket does not include Confidential Business Information (CBI) or other information whose disclosure is restricted by statute. The official public docket is the collection of materials that is available for public viewing at the Public Information and Records Integrity Branch (PIRIB), Room 119, Crystal Mall #2, 1801 S. Bell St., Arlington, VA 22202-4501. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, access those documents in the public docket that are available electronically. Although not all docket materials may be available electronically, you may still access any of the publicly available docket materials through the docket facility identified in Unit I.B.1. Once in the system, select “search,” then key in the appropriate docket ID number.

II. What Action is the Agency Taking?

This notice announces that EPA approved the Cancellation Order requests from Sumitomo Chemical Company, Limited and Bayer Environmental Science to cancel the registrations of three pesticide products registered under section 3 of the FIFRA. These three registrations constitute all registrations held by Sumitomo Chemical Company, Limited and Bayer Environmental Science of products containing 4-chloro-alpha-(1-methylethyl)benzeneacetic acid, cyano(3-phenoxyphenyl)methyl ester (fenvalerate).

On March 27, 2003, Sumitomo Chemical Company, Limited, and on April 1, 2003, Bayer Environmental Science submitted a letter to the Agency requesting voluntary cancellation of their fenvalerate technical registrations. This order follows up a Federal Register Notice of July 11, 2003 (68 FR 41343) (FRL-7315-5), announcing receipt of written requests from Sumitomo and Bayer to voluntarily cancel their fenvalerate product registrations. Sumitomo and Bayer also requested that the Administrator waive the 180-day waiting period under FIFRA section 6(f)(1)(C)(ii). Fenvalerate is a synthetic pyrethroid insecticide which is used to control insects and related organisms, molluscs, fouling organisms and miscellaneous invertebrates on agricultural, pet care, domestic home and garden (domestic), and commercial/industrial/food and non-food/mosquito abatement (commercial) sites.

No comments were received during the 30-day comment period, so therefore, EPA has decided to accept the voluntary cancellation requests. Accordingly, on December 23, 2003, the Agency issued an order canceling the three registrations identified in Table 1.

Table 1.—Approved Registration Cancellations
Registration No. | Product Name | Chemical Name
432-766 | Technical Fenvalerate Insecticide | Fenvalerate
1432-767 | Gold Crest Tribute Termiticide/Insecticide | Fenvalerate
10308-13 | Technical Sumicidin Insecticide | Fenvalerate

Table 2 of this unit includes the name and address of record for the registrants of the products in Table 1 of this unit.

Table 2.—Registrants Requesting Voluntary Cancellation
EPA Company No. | Company Name and Address
432 | Bayer Environmental Science 95 Chestnut Ridge Road Montvale, NJ 07645
10308 | Sumitomo Chemical Company, Limited 5-33 Kitahama 4-Chome, Chuo-ku Osaka, 541, Japan

III. Cancellation Order

Pursuant to section 6(f) of FIFRA, EPA hereby approved the requested cancellations of fenvalerate product registrations identified in Table 1 of this notice. Accordingly, the Agency ordered that the fenvalerate product registrations identified in Table 1 were hereby canceled as of December 23, 2003.

IV. What is the Agency's Authority for Taking this Action?

Section (6)(f)(1) of FIFRA provides that a registrant of a pesticide product may at any time request that any of its pesticide registrations be canceled. FIFRA further provides that before acting on the request, EPA must publish a notice of receipt of any such request in the Federal Register. Thereafter, the Administrator may approve such a request.

V. What Comments did the Agency Receive?

EPA did not receive any comments on the voluntary cancellation requests for the fenvalerate products during the comment period.

VI. Provisions for Disposition of Existing Stocks

For purposes of this Cancellation Order, the term “existing stocks” is defined, pursuant to EPA's existing stocks policy (56 FR 29362, June 26, 1991), as those stocks of a registered pesticide product which are currently in the United States and which have been packaged, labeled and released for shipment prior to the effective date of the cancellation. The existing stocks provisions of the Cancellation Order are as follows:

The orders affecting these requested cancellations permit a registrant to sell or distribute existing stocks for 1 year after the date the cancellation was requested. Sumitomo Chemical Company, Limited was not able to sell or distribute exiting stocks after March 27, 2004, and Bayer Environmental Science was not able to sell or distribute exiting stocks after April 1, 2004, which marks 1 year after the date the cancellation was requested. The product may be sold, distributed, and used by others until existing stocks have been exhausted, provided that such sale and use comply with the EPA-approved label and labeling of the effective product.

List of Subjects

Environmental protection, Pesticides and pests.

Dated: July 26, 2004.
Debra Edwards,
Director, Special Review and Reregistration Division, Office of Pesticide Programs.

[FR Doc. 04-17881 Filed 8-4-04; 8:45 am]

BILLING CODE 6560-50-S